DEPARTMENT OF STATE

[Public Notice: 9721]

Notice of Public Meeting in Preparation for the Sixty-Sixth Session of the International Maritime Organization Technical Cooperation Committee

The Department of State will conduct an open meeting at 9:00 a.m. on October 6, 2016, in Room 5L18-01 of the Douglas A. Munro Coast Guard Headquarters Building at St. Elizabeth's, 2703 Martin Luther King Jr. Avenue SE., Washington, DC 20593. The primary purpose of the meeting is to prepare for the sixty-sixth session of the International Maritime Organization's (IMO) Technical Cooperation Committee to be held at the IMO Headquarters, United Kingdom, October 10-12, 2016.

The agenda items to be considered include:

—Integrated Technical Cooperation Programme: Annual Report for 2015

—Sustainable financing of the Integrated Technical Cooperation Programme

—The 2030 Agenda for Sustainable Development

(a) Maritime policy development

(b) Country Maritime Profiles

(c) Linkage between the ITCP and the Sustainable Development Goals

(d) Revision of the Assembly resolutions relating to technical cooperation

—Partnerships:

(a) Regional presence and coordination

(b) Partnership arrangements

—Voluntary IMO Member Audit Scheme and IMO Member States Audit Scheme

—Capacity building: Strengthening the impact of women in the maritime sector

—Global maritime training institutions

—Impact Assessment Exercise for the period of 2012-2015

Members of the public may attend this meeting up to the seating capacity of the room. Upon request to the meeting coordinator, members of the public may also participate via teleconference. To facilitate the building security process, and to request reasonable accommodation, those who plan to attend should contact the meeting coordinator, LCDR Tiffany Duffy, by email at imo@uscg.mil, by phone at (202) 372-1376, or in writing at 2703 Martin Luther King Jr. Ave. SE., Stop 7509, Washington, DC 20593-7509 not later than September 29. Requests made after September 29, 2016 might not be able to be accommodated. Please note that due to security considerations, two valid, government issued photo identifications must be presented to gain entrance to the Coast Guard Headquarters Building. The Coast Guard Headquarters Building is accessible by taxi, public transportation, and privately owned conveyance (upon request). Additional information regarding this and other IMO public meetings may be found at: www.uscg.mil/imo.

Dated: September 7, 2016.
Jonathan W. Burby,
Coast Guard Liaison Officer, Office of Ocean and Polar Affairs, Department of State.

[FR Doc. 2016-22381 Filed 9-15-16; 8:45 am]

BILLING CODE 4710-09-P